DEPARTMENT OF TRANSPORTATION

Federal Aviation Administration

Notice Before Waiver With Respect to Land at Stafford Regional Airport, Stafford, VA

AGENCY: Federal Aviation Administration (FAA), DOT.

ACTION: Notice of intent of waiver with respect to land.

SUMMARY: The FAA is publishing notice of proposed release of 6.11 acres of excess land at the Stafford Regional Airport, Stafford, Virginia. There are no impacts to the Airport and the land is not needed for airport development as shown on the Airport Layout Plan. The excess surplus property is located in the approach for Runway 15 and will be used for the construction of the airport access road that will be built and maintained by Stafford County and the Virginia Department of Transportation. Appropriate restrictions will encumber the released property to ensure compatible land use.

DATES: Comments must be received on or before October 26, 2001.

ADDRESSES: Comments on this application may be mailed or delivered in triplicate to the FAA at the following address: Terry J. Page, Manager, FAA Washington Airports District Office, 23723 Air Freight Lane, Suite 210, Dulles, VA 20166.

In addition, one copy of any comments submitted to the FAA must be mailed or delivered to Mr. William C. Shelly, Coordinator, Stafford Regional Airport Authority, at the following address: Mr. William C. Shelly, Coordinator, Stafford Regional Airport Authority, c/o County of Stafford—Planning Office, Stafford, Virginia 22554-0370.

FOR FURTHER INFORMATION CONTACT: Mr. Terry Page, Manager, Washington Airports District Office, 23723 Air Freight Lane, Suite 210, Dulles, VA 20166; telephone (703) 661-1354, fax (703) 661-1370, email Terry.Page@faa.gov.

SUPPLEMENTARY INFORMATION: On April 5, 2000, new authorizing legislation became effective. That bill, the Wendell H. Ford Aviation Investment and Reform Act for the 21st Century, Public Law 10-181 (Apr. 5, 2000; 114 Stat. 61) (AIR 21) requires that a 30 day public notice must be provided before the Secretary may waive any condition imposed on an interest in surplus property.

Issued in Chantilly, Virginia on September 12, 2001.
Terry J. Page,
Manager, Washington Airports District Office, Eastern Region.

[FR Doc. 01-24099 Filed 9-25-01; 8:45 am]

BILLING CODE 4910-13-M